DEPARTMENT OF EDUCATION

Submission for OMB Review; Comment Request

AGENCY: Department of Education.

ACTION: Correction Notice.

SUMMARY: On January 9, 2008, the Department of Education published a comment period notice in the Federal Register (Page 1609, Column 3) for the information collection, “Common Core of Data Survey System.” The abstract is hereby corrected to read, “The Common Core of Data fiscal data collection gathers universe information from states about public school districts and schools. Information is collected annually from school districts about the districts and their members schools.”

The IC Clearance Official, Regulatory Information Management Services, Office of Management, hereby issues a correction notice as required by the Paperwork Reduction Act of 1995.

Dated: January 10, 2008.
Angela C. Arrington,
IC Clearance Official, Regulatory Information Management Services, Office of Management.

[FR Doc. E8-689 Filed 1-15-08; 8:45 am]

BILLING CODE 4000-01-P